DEPARTMENT OF LABOR

Employment and Training Administration

[TA-W-40,525, TA-W-40,525E, and TA-W-40,525F]

The Boeing Company Commercial Airplane Group, Seattle, Washington, Corinth, Texas, and Irving, Texas; Amended Certification Regarding Eligibility To Apply for Worker Adjustment Assistance

In accordance with Section 223 of the Trade Act of 1974 (19 U.S.C. 2273) the Department of Labor issued a Notice of Certification Regarding Eligibility to Apply for Worker Adjustment Assistance on March 18, 2002, applicable to workers of The Boeing Company, Commercial Airplane Group, Seattle, Washington. The notice was published in the Federal Register on March 29, 2002 (67 FR 15226).

At the request of the company, the Department reviewed the certification for workers of the subject firm. The workers are engaged in the production of large commercial aircraft and the components thereof.

Company information shows that worker separations occurred at the Corinth, Texas and Irving, Texas locations of the Commercial Airplane Group of The Boeing Company. These workers produce commercial aircraft components such as wire harnesses and avionics—flight deck controls and black boxes, respectively.

Accordingly, the Department is amending this certification to include workers of the Corinth, Texas and Irving, Texas locations of The Boeing Company, Commercial Airplane Group.

The intent of the Department's certification is to include all workers of The Boeing Company, Commercial Airplane Group who were adversely affected by increased imports.

The amended notice applicable to TA-W-40,525 is hereby issued as follows:

“All workers of The Boeing Company, Commercial Airplane Group, Seattle, Washington (TA-W-40,525), Corinth, Texas (TA-W-40,525E) and Irving, Texas (TA-W-40525F) who became totally or partially separated from employment on or after February 25, 2002, through March 18, 2004, are eligible to apply for adjustment assistance under Section 223 of the Trade Act of 1974.”

Signed at Washington, DC, this 26th day of April, 2002.
Linda G. Poole,
Certifying Officer, Division of Trade Adjustment Assistance.

[FR Doc. 02-13937 Filed 6-3-02; 8:45 am]

BILLING CODE 4510-30-P